FEDERAL COMMUNICATIONS COMMISSION

Notice of Public Information Collection(s) Being Reviewed by the Federal Communications Commission

July 28, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 4, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554; or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0233.

Title: Part 36—Separations.

Form No.: N/A.

Type of Review: Revision of a currently approved collection.

Respondents: Business or other for-profit, not-for-profit institutions.

Number of Respondents: 2,067 respondents; 5,433 responses.

Estimated Time Per Response: 5-22 hours.

Frequency of Response: On occasion, quarterly, and annual reporting requirements, third party disclosure requirements.

Total Annual Burden: 57,459 hours.

Total Annual Cost: N/A.

Needs and Uses: In order to allow determination of the study areas that are entitled to an expense adjustment, and the wire centers that are entitled to high-cost universal service support, each incumbent local exchange carrier must provide certain data to the National Exchange Carrier Association (NECA) annually and/or quarterly. Local telephone companies who want to participate in the federal universal service support program must make certain informational showings to demonstrate eligibility. With this submission, this information collection has been revised to eliminate 47 CFR Sections 36.701 through 36.741 which are no longer in effect. This modification was proposed in a Notice of Proposed Rulemaking in WC Docket No. 03-109, FCC 03-120. Additionally, the Fourteenth Report and Order in CC Docket No. 96-45, FCC 01-157, modified the requirement that only non-rural carriers are only required to file loop counts on a quarterly basis, this eliminating quarterly filing of loop cost data. This requirement was modified because it is no longer necessary for NECA to compute the national average cost per loop quarterly. The national average cost per loop is now frozen at $240 per loop.

OMB Control No.: 3060-0817.

Title: Computer III Further Remand Proceedings: BOC Provision of Enhanced Services (ONA Requirements), CC Docket No. 95-20.

Form No.: N/A.

Type of Review: Extension of a currently approved collection.

Respondents: Business or other for-profit.

Number of Respondents: 5 respondents; 10 responses.

Estimated Time Per Response: 2-50 hours.

Frequency of Response: On occasion and semi-annual reporting requirements and third party disclosure requirement.

Total Annual Burden: 270 hours.

Total Annual Cost: N/A.

Needs and Uses: The Commission is seeking extension (no change) in this information collection. Bell Operating Companies (BOCs) are required to post their Comparably Efficient Interconnection (CEI) plans and amendments on their publicly accessible Internet sites. The requirement extends to CEI plans for new or modified telemessaging or alarm monitoring services and for new or amended payphone services. If the BOC receives a good faith request for a plan from someone who does not have Internet access, the BOC must notify that person where a paper copy of the plan is available for public inspection. The CEI plans will be used to ensure that BOCs comply with Commission policies and regulations safeguarding against potential anticompetitive behavior by the BOCs in the provision of information services.

OMB Control No.: 3060-0726.

Title: Quarterly Report of Interexchange Carriers Listing the Number of Dial-Around Calls for Which Compensation is Being Paid to Payphone Owners.

Form No.: N/A.

Type of Review: Extension of a currently approved collection.

Respondents: Business or other for-profit.

Number of Respondents: 261 respondents; 1,044 responses.

Estimated Time Per Response: 2 hours.

Frequency of Response: Quarterly reporting requirements and third party disclosure requirement.

Total Annual Burden: 522 hours.

Total Annual Cost: N/A.

Needs and Uses: The Commission is seeking extension (no change) in this information collection. Interexchange carriers responsible for paying per-call compensation to payphone providers must submit on a quarterly basis a list of dial-around calls to those payphone providers. The payphone providers need the list to calculate the compensation to be paid by the interexchange carriers.

Federal Communications Commission.
Marlene H. Dortch,
Secretary.

[FR Doc. 03-19843 Filed 8-4-03; 8:45 am]

BILLING CODE 6712-01-P